FEDERAL COMMUNICATIONS COMMISSION

47 CFR Part 64

[CG Docket Nos. 03-123 and 10-51; DA 20-219; FR ID 50873]

Structure and Practices of the Video Relay Services Program; Correction

AGENCY: Federal Communications Commission.

ACTION: Correcting amendments.

SUMMARY: An amendment to the rules of the Federal Communications Commission (Commission) published in the Federal Register on July 7, 2021. The document inadvertently removed the incorporation by reference for the Request for Comments (RFC) 6351, xCard; vCard XML Representation and inadvertently retained the incorpation by reference for the Interoperabilty Profile for Relay User Equipment. This document corrects the regulation.

DATES: Effective on October 5, 2021

FOR FURTHER INFORMATION CONTACT: Michael Scott, Consumer and Governmental Affairs Bureau, at (202) 418-1264, or email Michael.Scott@fcc.gov.

SUPPLEMENTARY INFORMATION: This document corrects 49 CFR 64.621. The final rules document published at 86 FR 35632, July 7, 2021.

List of Subjects in 47 CFR Part 64

Incorporation by reference, Individuals with disabilities, Telecommunications, Telecommunications relay services.

Federal Communications Commission.
Gregory Haledjian,
Legal Advisor, Consumer and Governmental Affairs Bureau.

Final Rules

For the reasons discussed in the preamble, the Federal Communications Commission corrects 47 CFR part 64 by making the following correcting amendment:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.621 by:

a. Removing and reserving paragraph (c)(2)(i); and

b. Adding paragraph (c)(2)(ii).

The revision reads as follows:

§ 64.621 Interoperability and portability.

* * * * *

(c) * * *

(2) * * *

(ii) Request for Comments (RFC) 6351, xCard: vCard XML Representation (August 2011) https://tools.ietf.org/html/rfc6351.

[FR Doc. 2021-21572 Filed 10-4-21; 8:45 am]

BILLING CODE 6712-01-P